DEPARTMENT OF HEALTH AND HUMAN SERVICES

Centers for Disease Control and Prevention

[30Day-08-0493]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

2009 and 2011 National Youth Risk Behavior Surveys (YRBS) (OMB No. 0920-0493)—Reinstatement—National Center for Chronic Disease Prevention and Health Promotion (NCCDPHP), Centers for Disease Control and Prevention (CDC).

Background and Brief Description

The purpose of this request is to obtain OMB approval to continue data collection for the National Youth Risk Behavior Survey (YRBS), a school-based survey that has been conducted biennially since 1991. OMB approval for the 2005 YRBS and 2007 YRBS expired November 30, 2007 (OMB No. 0920-0493). CDC seeks a three-year approval to conduct the YRBS in Spring 2009 and Spring 2011. Minor changes incorporated into this reinstatement request include: An updated title for the information collection, to accurately reflect the years in which the survey will be conducted; minor changes to the burden estimate; and minor changes to the data collection instrument.

The YRBS assesses priority health risk behaviors related to the major preventable causes of mortality, morbidity, and social problems among both youth and young adults in the United States. Data on health risk behaviors of adolescents are the focus of approximately 40 national health objectives in Healthy People 2010, an initiative of the U.S. Department of Health and Human Services (HHS). The YRBS provides data to measure at least 10 of the health objectives and 3 of the 10 Leading Health Indicators established by Healthy People 2010. In addition, the YRBS can identify racial and ethnic disparities in health risk behaviors. No other national source of data measures as many of the Healthy People 2010 objectives addressing adolescent behaviors as the YRBS. The data also will have significant implications for policy and program development for school health programs nationwide.

In Spring 2009 and Spring 2011, the YRBS will be conducted among nationally representative samples of students attending public and private schools in grades 9-12. Information supporting the YRBS also will be collected from school administrators and teachers. The table below reports the total number of respondents for the two cycles of data collection (2009 and 2011) annualized over the 3-year project period.

There are no costs to respondents except their time. The total estimated annualized burden hours are 6,215.

Estimated Annualized Burden Hours
Type of respondent | Form name | Number of respondents | Number of responses per respondent | Average burden per response (in hours)
State Administrators | State-level Recruitment Script for the Youth Risk Behavior Survey | 17 | 1 | 30/60
District Administrators | District-level Recruitment Script for the Youth Risk Behavior Survey | 80 | 1 | 30/60
School Administrators | School-level Recruitment Script for the Youth Risk Behavior Survey | 133 | 1 | 30/60
Teachers | Data Collection Checklist for the Youth Risk Behavior Survey | 400 | 1 | 15/60
Students | Youth Risk Behavior Survey | 8,000 | 1 | 45/60

Dated: April 29, 2008.
Maryam I. Daneshvar,
Acting Reports Clearance Officer, Centers for Disease Control and Prevention.

[FR Doc. E8-10470 Filed 5-9-08; 8:45 am]

BILLING CODE 4163-18-P